DEPARTMENT OF TRANSPORTATION

Federal Aviation Administration

14 CFR Part 39

[Docket No. FAA-2011-0054; Directorate Identifier 2010-CE-070-AD; Amendment 39-16582; AD 2011-01-53]

RIN 2120-AA64

Airworthiness Directives; PIAGGIO AERO INDUSTRIES S.p.A Model PIAGGIO P-180 Airplanes

AGENCY: Federal Aviation Administration (FAA), DOT.

ACTION: Final rule; correction.

SUMMARY: The FAA is correcting an airworthiness directive (AD) that published in the Federal Register. That AD applies to the products listed above. The Piaggio service bulletin number specified in the Alternative Methods of Compliance (AMOCs) section is incorrect. This document corrects that error. In all other respects, the original document remains the same.

DATES: This final rule is effective February 11, 2011. The effective date for AD 2011-01-53 remains January 24, 2011.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Mike Kiesov, Aerospace Engineer, Small Airplane Directorate, FAA, 901 Locust, Kansas City, MO 64106; phone: (816) 329-4144; fax: (816) 329-4090; e-mail: mike.kiesov@faa.gov.

SUPPLEMENTARY INFORMATION: Airworthiness Directive 2011-01-53, amendment 39-16582 (76 FR 4056, January 24, 2011), currently requires an immediate functional test of the fuselage drain holes, and requires sending a report of the results to the FAA. The AD also allows, with noted exceptions, for the return/position of the airplane to a home base, hangar, maintenance facility, etc. for PIAGGIO AERO INDUSTRIES S.p.A Model PIAGGIO P-180 airplanes.

As published, the Piaggio service bulletin number specified in the Alternative Methods of Compliance (AMOCs) section is incorrect.

No other part of the preamble or regulatory information has been changed; therefore, only the changed portion of the final rule is being published in the Federal Register.

The effective date of AD 2011-01-53 remains January 24, 2011.

Correction of Regulatory Text

§ 39.13 [Corrected]

In the Federal Register of January 24, 2011, on page 4058, in the first column, paragraph (k)(2) of AD 2011-01-53, the Alternative Methods of Compliance (AMOCs) section is corrected to read as follows:

(2) Accomplishment of Piaggio Service Bulletin (ALERT) No. 80-0324, dated December 20, 2010, in its entirety provides an acceptable level of safety to the actions of this AD and thus is considered an approved AMOC for AD 2011-01-53.

Issued in Kansas City, Missouri, on February 7, 2011.
Earl Lawrence,
Manager, Small Airplane Directorate, Aircraft Certification Service.

[FR Doc. 2011-3076 Filed 2-10-11; 8:45 am]

BILLING CODE 4910-13-P